DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Quarterly Financial Report.

Form Number(s): QFR-200(MT), QFR-201(MG).

Agency Approval Number: 0607-0432.

Type of Request: Extension of a currently approved collection.

Burden Hours: 71,568.

Number of Respondents: 8,651.

Average Hours per Response: QFR-200 (MT)—3 hours and 2 minutes; and QFR-201(MG)—1 hour and 12 minutes.

Needs and Uses: The Quarterly Financial Report (QFR) Program has published up-to-date aggregate statistics on the financial results and position of U.S. corporations since 1947. It is a principal economic indicator that also provides financial data essential to calculation of key U.S. Government measures of national economic performance. The forms used in conducting the QFR Program are Form QFR-200 (MT)—Long Form and Form QFR-201 (MG) Short Form.

Filing of the long form, basically an income statement and balance sheet, is required quarterly of Manufacturing, Mining, Wholesale Trade and Retail Trade corporations generally with $50 million or more in assets at the time of sampling. The short form is a simplified version of the long form and is required to be filed quarterly by Manufacturing corporations generally with less than $50 million in assets at the time of sampling.

The importance of this data collection is reflected by the granting of specific authority to conduct the program in Title 13 of the United States Code, Section 91, which requires that financial statistics of business operations be collected and published quarterly. Public Law 109-79, Section 91 extended the authority of the Secretary of Commerce to conduct the QFR Program through September 30, 2015.

The main purpose of the QFR is to provide timely, accurate data on business financial conditions for use by Government and private-sector organizations and individuals. The primary public users are U.S. Governmental organizations with economic policymaking responsibilities. In turn, these organizations play a major role in providing guidance, advice, and support to the QFR Program. The primary private-sector data users are a diverse group including universities, financial analysts, unions, trade associations, public libraries, banking institutions, and U.S. and foreign corporations.

Affected Public: Business or other for-profit organizations.

Frequency: Quarterly.

Respondent's Obligation: Mandatory.

Legal Authority: 13 U.S.C., Section 91; Pub. L. 109-79, Section 91.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: June 4, 2007.
Gwellnar Banks,
Management Analyst, Office of the Chief Information Officer.

[FR Doc. E7-11068 Filed 6-7-07; 8:45 am]

BILLING CODE 3510-07-P